DEPARTMENT OF DEFENSE

Office of the Secretary

Nationwide TRICARE Demonstration Project

AGENCY: Office of the Secretary of Defense for Health/TRICARE Management Activity, DoD.

ACTION: Notice extending deadline for Demonstration Project.

SUMMARY: On November 5, 2001, the Department of Defense (DoD) published a notice of a Nationwide TRICARE Demonstration Project (66 FR 55928-55930). On October 1, 2004, the Department of Defense (DoD) published a notice (69 FR 58895) to extend the Demonstration through October 31, 2005. The Demonstration is also referred to as the Operation Noble Eagle/Enduring Freedom Reservist and National Guard Benefits Demonstration. This notice is to advise interested parties of the continuation of the Demonstration in which the DoD Military Health System addresses unreasonable impediments to the continuity of healthcare encountered by certain family members of Reservists and National Guardsmen called to active duty in support of a federal/contingency operation. The Demonstration scheduled to end on October 31, 2005, is now extended through October 31, 2007.

FOR FURTHER INFORMATION CONTACT: Office of the Assistance Secretary of Defense for Health Affairs, TRICARE Management Activity, TRICARE Operations Directorate at (703) 681-0039.

SUPPLEMENTARY INFORMATION: Continuing levels of about 170,000 Reserve Component members activated in support of Noble Eagle/Operation Enduring Freedom and Operation Iraqi Freedom in FY 2005 warrants the continuation of the Demonstration to support the healthcare needs and morale of family members of activated reservists and guardsmen. The National Defense Authorization Act of 2005 amended existing statutes that will enable the Secretary of Defense to provide these benefits permanently by regulation. The Demonstration needs to be extended to provide sufficient time for the rule-making process to establish the new regulation. The impact if the Demonstration is not extended, before permanent regulation is promulgated, includes higher out-of-pocket costs and potential inability to continue to use the same provider for ongoing care. There are three separate components to the demonstration. First, those who participate in TRICARE Standard will not be responsible for paying the TRICARE Standard deductible. By law, the TRICARE Standard deductible for active duty dependents is $150 per individual, $300 per family ($50/$150 for E-4's and below). The second component extends TRICARE payments up to 115 percent of the TRICARE maximum allowable charge, less the applicable patient co-payment, for care received from a provider that does not participate (accept assignment) under TRICARE to the extent necessary to ensure timely access to care and clinically appropriate continuity of care. Third, the Demonstration authorizes a waiver of the non-availability statement requirement for non-emergency inpatient care. This Demonstration project is being conducted under the authority of 10 U.S.C. 1092. This Demonstration is extended through October 31, 2007.

Dated: September 1, 2005.
L.M. Bynum,
Alternate OSD Federal Register, Liaison Officer, Department of Defense.

[FR Doc. 05-17789 Filed 9-7-05; 8:45 am]

BILLING CODE 5001-06-M